DEPARTMENT OF HOMELAND SECURITY

Coast Guard

33 CFR Part 165

[Docket No. USCG-2025-0491]

Safety Zones; Annual Fireworks Displays Within the Captain of the Port, Puget Sound Area of Responsibility

AGENCY: Coast Guard, DHS.

ACTION: Notification of enforcement of regulation.

SUMMARY: The Coast Guard will enforce the safety zones established for annual firework displays in the Captain of the Port, Sector Puget Sound area of responsibility to ensure the safety of life on navigable waters during these events. The Coast Guard's regulation for marine events within the Thirteenth Coast Guard District identifies the regulated area for these events. During the enforcement periods, the operator of any vessel in the regulated area must comply with lawful directions form the Patrol Commander or any Official Patrol displaying a Coast Guard ensign.

DATES: The regulations in 33 CFR 165.1332 will be enforced for the safety zones identified in the SUPPLEMENTARY INFORMATION section below, on the dates and times specified.

FOR FURTHER INFORMATION CONTACT: If you have questions about this notification of enforcement, call or email LT Anthony Pinto, Sector Puget Sound Waterways Management, U.S. Coast Guard; telephone 206-217-6051, or SectorPugetSoundWWM@uscg.mil.

SUPPLEMENTARY INFORMATION: The Coast Guard will enforce the safety zones established in 33 CFR 165.1332 for the Annual Fireworks Displays within the Captain of the Port, Puget Sound Area of Responsibility. These regulations will be enforced on specific dates and times for each location as listed below. Each safety zone will be enforced only during its designated period:

Event name (typically) | Event date/time | Event location | Latitude | Longitude
Alderbrook Resort & Spa Fireworks | July 3, 2025, 9:30 p.m.-12 p.m | Hood Canal | 47°21.033′ N | 123°04.1′ W
Deer Harbor Annual Fireworks Display | July 3, 2025, 9:30 p.m.-11 p.m | Deer Harbor | 48°37.0′ N | 123°00.25′ W
Steilacoom Annual Fireworks | July 4, 2025, 10 p.m.-11:30 p.m | Steilacoom | 47°10.4′ N | 122°36.2′ W
Tacoma Freedom Fair | July 4, 2025, 9:30 p.m.-11 p.m | Commencement Bay | 47°17.103′ N | 122°28.410′ W
City of Anacortes | July 4, 2025, 9:45 p.m.-11 p.m | Fidalgo Bay | 48°30.016′ N | 122°36.154′ W
Fireworks Display | July 4, 2025, 9:30 p.m.-11 p.m | Henderson Bay | 47°21.8′ N | 122°38.367′ W
City of Kenmore Fireworks | July 4, 2025, 9:30 p.m.-11 p.m | Lake Forest Park | 47°45.25′ N | 122°15.75′ W
Vashon Island Fireworks | July 4, 2025, 8:30 p.m.-11:30 p.m | Quartermaster Harbor | 47°24.0′ N | 122°27.0′ W
Kingston Fireworks | July 4, 2025, 9:30 p.m.-11 p.m | Appletree Cove | 47°47.65′ N | 122°29.917′ W
Brewster Fire Department Fireworks | July 4, 2025, 9:30 p.m.-11 p.m | Brewster | 48°05.362′ N | 119°47.147′ W
Friday Harbor Independence | July 4, 2025, 9:30 p.m.-11 p.m | Friday Harbor | 48°32.255′ N | 123°0.654′ W
Roche Harbor Fireworks | July 4, 2025, 10 p.m.-11:30 p.m | Roche Harbor | 48°36.7′ N | 123°09.5′ W
Blast Over Bellingham | July 4, 2025, 10 p.m.-11:30 p.m | Bellingham Bay | 48°44.933′ N | 122°29.667′ W
City of Mount Vernon Fireworks | July 4, 2025, 9:30 p.m.-11 p.m | Edgewater Park | 48°25.178′ N | 122°20.424′ W
Chase Family Fourth at Lake Union | July 4, 2025, 10 p.m.-11:30 p.m | Lake Union | 47°38.418′ N | 122°20.111′ W
Everett 4th of July | July 4, 2025, 9:30 p.m.-11 p.m | Port Gardner | 48°00.672′ N | 122°13.391′ W
Port Orchard Fireworks | July 5, 2025, 8:30 p.m.-11:30 p.m | Port Orchard | 47°32.883′ N | 122°37.917′ W
Mercer Island Celebration | July 12, 2025, 9:30 p.m.-11:30 p.m | Mercer Island | 47°35.517′ N | 122°13.233′ W
Medina Days | August 9, 2025, 9 p.m.-10:30 p.m | Medina Park | 47°36.867′ N | 122°14.5′ W
Mukilteo Lighthouse Festival | September 6, 2025, 8 p.m.-9:30 p.m | Possession Sound | 47°56.9′ N | 122°18.6′ W

The special requirements listed in 33 CFR 165.1332(b) apply to the activation and enforcement of these safety zones. While the safety zone is activated, all non-participant vessels are prohibited from entering, transiting through, anchoring in, or remaining within the regulated area unless authorized by the Captain of the Port or their designated representative, as set forth in 33 CFR 165.1332(d). The Coast Guard may be assisted by other Federal, State, or local law enforcement agencies in enforcing this regulation.

The Coast Guard will issue advanced notification of enforcement of these safety zones via Broadcast Notice to Mariners and Local Notice to Mariners.

Dated: June 24, 2025.
Mark A. McDonnell,
Captain, U.S. Coast Guard, Captain of the Port, Sector Puget Sound.

[FR Doc. 2025-11922 Filed 6-26-25; 8:45 am]

BILLING CODE 9110-04-P